DEPARTMENT OF THE INTERIOR

Bureau of Land Management

[OR-936-1430-01; HAG-08-0088; WAOR-60988]

Public Land Order No. 7715; Transfer of Federal Lands for the Lewis and Clark National Historical Park; WA

AGENCY: Bureau of Land Management, Interior.

SUMMARY: This order confirms the transfer of management of 1,246 acres of Federal surveyed and accreted lands thereto, by the Secretary of Interior from the Bureau of Land Management to the Director, National Park Service for the creation of the Lewis and Clark National Historical Park.

DATES: Effective Date: September 3, 2008.

FOR FURTHER INFORMATION CONTACT: Michael L. Barnes, BLM, Oregon State Office, P.O. Box 2965, Portland, Oregon 97208, 503-808-6155.

SUPPLEMENTARY INFORMATION: Public Law No. 108-387 directs the Secretary of the Interior to transfer management of Federal lands described in this order to the Director of the National Park Service for the lands described below.

Order

By virtue of the authority vested in the Secretary of the Interior by Public Law No. 108-387, 118 Stat. 2235, and Section 204 of the Federal Land Policy and Management Act of 1976, 43 U.S.C. 1714 (2000), it is ordered and confirmed as follows:

1. Subject to valid existing rights (including existing withdrawals), management as to the following described Federal lands is hereby transferred by the Secretary of the Interior from the Bureau of Land Management to the Director, National Park Service:

Willamette Meridian

T. 9 N., R. 11 W.,

Sec. 4, lots 2, 3, and 4, and all accretions thereto;

Sec. 5, lots 2, 3, 4, 5, 7, SE¼NE¼, and E½SE¼, and all accretions thereto;

Sec. 9, lots 2, 3, and 4, and all accretions thereto.

The areas described aggregate 1,246 acres, more or less, in Pacific County.

2. The lands described in Paragraph 1 shall be administered as part of the Lewis and Clark National Historic Park in accordance with the provisions of Public Law No. 108-387.

Dated: July 31, 2008.
C. Stephen Allred,
Assistant Secretary—Land and Minerals Management.

[FR Doc. E8-20404 Filed 9-2-08; 8:45 am]

BILLING CODE 4310-33-P